DEPARTMENT OF HEALTH AND HUMAN SERVICES

Administration for Children and Families

[Program Announcement No. 93631-02-02]

Developmental Disabilities: Final Notice of Availability of Financial Assistance and Request for Applications for Support Demonstration Projects Under the Projects of National Significance Program

AGENCY: Administration on Developmental Disabilities (ADD), Administration for Children and Families (ACF), DDHS.

ACTION: Notice.

SUMMARY: The Administration on Developmental Disabilities (ADD), Administration for Children and Families (ACF), is accepting applications for Fiscal Year 2002 Projects of National Significance (PNS).

This Program Announcement (Number 93631-02-02) consists of five parts. Part I, the Introduction, discusses the goals and objectives of ACF and ADD, while Part II provides background information on ADD for applicants. Part III describes the application review process. Part IV contains several components including: description of eligible applicants, purpose of project funds, requirements of project design, and evaluation criteria for each of the Priority Areas which ADD requests applications for Fiscal Year 2002 funding of projects. Additionally, Part IV describes the five (5) Priority Areas, identifies the purpose of each Priority Area, and provides background information specific to each Priority Area in detail for the eligible applicants. The Priority Areas for Fiscal Year 2002 and the primary objective for each Priority Area are as follows:

• Priority Area 1: Learning through Assisting. The Primary Objective of Primary Area 1 is to create opportunities for and provide support to high school students to earn service learning credits by assisting children with developmental disabilities in inclusive environments.

• Priority Area 2: Creating and Celebrating One Community for All Citizens. The Primary Objective of Priority Area is to build and support local communities of diverse citizens where individuals with developmental disabilities feel welcome and able to make contributions.

• Priority Area 3: Enhancing Early Literacy and Education for Children with Developmental Disabilities. The Primary Objective of Priority Area 3 is to identify, evaluate, and promote promising practices in inclusive early literacy and educational programs for young children with developmental disabilities.

• Priority Area 4: Increasing Access in Rural Communities. The Primary Objective for Priority Area 4 is to identify, develop, and promote inclusive transportation opportunities and coalitions in rural communities with individuals who experience developmental disabilities.

• Priority Area 5: Expanding Positive Youth Development Activities for Young People with Developmental Disabilities. The Primary Objective for Priority Area 5 is to expand youth development activities and provide positive community college experiences for young adults with developmental disabilities.

Finally, Part V describes the process for preparing and submitting the application.

DATES: The closing date for submittal of applications under this announcement is July 24, 2002.

Deadline: Applications Submitted by Mail. Mailed applications shall be considered as meeting an announced deadline if they are received on or before the deadline time and date at the U.S. Department of Health and Human Services, ACF/Office of Grants Management, 370 L'Enfant Promenade SW., Mail Stop 326-F, Washington, DC 20447-0002, Attention: Lois Hodge. Any applications received after 4:30 p.m. on the deadline date will not be considered for competition.

Applicants must ensure that a legibly dated U.S. Postal Service postmark or a legibly dated, machine produced postmark of a commercial mail service is affixed to the envelope/package containing the application(s). To be acceptable as proof of timely mailing, a postmark from a commercial mail service must include the logo/emblem of the Commercial Mail Service Company and must reflect the date the package was received by the Commercial Mail Service Company from the applicant. Private metered postmarks shall not be acceptable as proof of timely mailing. All applications shall be mailed or hand-carried at the request and expense of the applicant.

Application Submitted by Courier

Applications hand-carried by applicants, applicant couriers, other representatives of the applicant, or by overnight/express mail couriers shall be considered as meeting an announced deadline if they are received on or before the closing date, between the hours of 8:00 a.m. and 4:30 p.m., EST, Monday through Friday (excluding Federal holidays), at the U.S. Department of Health and Human Services, ACF/Office of Grants Management, ACF Mail Center, 2nd Floor (near loading dock), Aerospace Center, 901 D Street, SW, Washington, DC 20024, between Monday and Friday (excluding Federal holidays). This mailing address must appear on the envelope/package containing the application with the note “Attention: Lois Hodge.” Applicants using express/overnight services should allow two working days (working days are defined as Monday through Friday, excluding Federal Holidays) prior to the closing date for receipt of applications.

Note to Applicants: Express/overnight mail services do not always deliver in the agreed upon timeframe.

Receipt of Applications: Applications must either be hand delivered or mailed to the addresses listed above (under DEADLINE). ACF cannot accommodate transmission of applications by fax or through other electronic media. Applications transmitted electronically will not be accepted. Videotapes and cassette tapes may not be included as part of a grant application for panel review. Additional material will not be accepted, or added to an application, unless it is postmarked by the deadline date.

Late Applications: Applications that do not meet the criteria above are considered late applications. ACF shall notify each late applicant that its application will not be considered in the current competition.

Extension of Deadlines: ACF may extend application deadlines when circumstances such as acts of God (e.g., floods, hurricanes) occur, or when there is widespread disruption of the mail service. Determinations to extend or waive deadline requirements rest with the Chief Grants Management Officer.

FOR FURTHER INFORMATION CONTACT: For information about the application process, program information and application materials contact, ADD at the Administration for Children and Families (ACF), Attention: April Myers, 370 L'Enfant Promenade, SW., Rm. 300F, Washington, DC, 20447, send e-mail to AMyers@acf.hhs.gov, or call 202/690-5985. Copies of this Program Announcement and many of the required forms may be obtained electronically at the ADD World Wide Web Page: http://www.acf.hhhs.gov/programs/add/.

Notice of Intent to Submit Application: If you intend to submit an application, please fax the following information to April Myers, (202) 690-6904 at, ADD; the number and title of this announcement, the Priority Area you wish to apply under, your organization's name and address, and your contact person's name, your contact's phone and fax numbers, and their e-mail address. This information will be used to determine the number of expert reviewers needed and to update the mailing list for future program announcements.

SUPPLEMENTARY INFORMATION:

Part I: General Information

A. Goals of the Administration on Developmental Disabilities

The Administration on Developmental Disabilities (ADD) is located within the Administration for Children and Families (ACF) at the Department of Health and Human Services (DHHS). ADD shares goals with other ACF programs that promote the economic and social well being of families, children, individuals, and communities. ACF and ADD envision:

• Families and individuals empowered to increase their own economic independence and productivity;

• Strong, healthy, supportive communities having a positive impact on the quality of life and the development of children;

• Partnerships with individuals, front-line service providers, communities, States, and Congress that enable solutions which transcend traditional agency boundaries;

• Services planned and integrated to improve client access;

• A strong commitment to working with Native Americans, persons with developmental disabilities, refugees and migrants to address their individual needs, strengths and abilities; and

• A community-based approach that recognizes and expands on the resources and benefits of diversity.

The goals will enable more individuals, including people with developmental disabilities, to live productive and independent lives integrated into their communities. The Projects of National Significance (PNS) Program is one means through which ADD promotes the achievement of these goals.

B. Purpose of the Administration on Developmental Disabilities

The Administration on Developmental Disabilities (ADD) is the lead agency within ACF and DHHS responsible for planning and administering programs to promote the self-sufficiency and protect the rights of persons with developmental disabilities. ADD implements the Developmental Disabilities Assistance and Bill of Rights Act, the DD Act, that was reauthorized in 2000. The DD Act defines developmental disabilities, reauthorizes four major programs under ADD, devolves advocacy to the States, promotes consumer oriented systems change and capacity building activities and facilitates network formations.

The Act supports and provides assistance to States, public agencies, and private nonprofit organizations to assure that individuals with developmental disabilities and their families participate in the design of and have access to culturally competent services, supports, and other assistance and opportunities that promote independence, productivity, integration, and inclusion into the community.

As defined in the DD Act, the term “Developmental disabilities” means a severe, chronic disability of an individual that is attributable to a mental or physical impairment or combination of mental and physical impairments that is manifested before the individual attains age 22 and is likely to continue indefinitely. Developmental Disabilities result in substantial limitations in three or more of the following functional areas; self-care, receptive and expressive language, learning, mobility, self-direction, capacity for independent living, and capacity for economic self-sufficiency.

In the DD Act, Congress cited the following findings:

• Disability is a natural part of the human experience that does not diminish the right of individuals with developmental disabilities to enjoy the opportunity for independence, productivity, integration, and inclusion into the community;

• Individuals whose disabilities occur during their developmental period frequently have severe disabilities that are likely to continue indefinitely; and

• Individuals with developmental disabilities often require lifelong specialized services and assistance, provided in a coordinated and culturally competent manner by many agencies, professionals, advocates, community representatives, and others to eliminate barriers and to meet the needs of such individuals and their families.

The DD Act further promotes the best practices and policies presented below:

• Individuals with developmental disabilities, including those with the most severe developmental disabilities, are capable of achieving independence, productivity, integration and inclusion into the community, and often require the provision of services, supports, and other assistance to achieve such;

• Individuals with developmental disabilities have competencies, capabilities, and personal goals that should be recognized, supported, and encouraged, and any assistance to such individuals should be provided in an individualized manner, consistent with the unique strengths, resources, priorities, concerns, abilities, and capabilities of the individual; and

• Individuals with developmental disabilities and their families are the primary decision makers regarding the services and supports such individuals and their families receive; and play decision making roles in policies and programs that affect the lives of such individuals and their families.

Toward these ends, ADD seeks to support and accomplish the following:

• Enhance the capabilities of families in assisting individuals with developmental disabilities to achieve their maximum potential;

• Support the increasing ability of individuals with developmental disabilities to exercise greater choice and self-determination and to engage in leadership activities in their communities; and

• Ensure the protection of individuals with developmental disabilities' legal and human rights.

The four programs funded under the DD Act are:

• State Council on Developmental Disabilities that engage in advocacy, capacity building and systematic change activities.

• State Protection and Advocacy System (P&A's) that protect the legal and human rights of individuals with developmental disabilities.

• The National Network of University Centers for Excellence in Developmental Disabilities Education, Research, and Service (UCDD's) that engages in training, outreach and dissemination activities.

• The Projects of National Significance (PNS), including Family Support Grants, support the development of family centered and directed systems for families of children with disabilities.

All ADD programs must engage in activities related to advocacy, capacity building and systems change in one or more areas of emphasis. These areas of emphasis are: child-care related activities; early intervention and education activities; employment-related activities; health-related activities; housing-related activities; recreation-related activities; transportation-related activities; and quality assurance activities.

C. Statutory Authorities Covered Under This Announcement

This Announcement is covered under the Developmental Disabilities Assistance and Bill of Rights Act of 2000, 42 U.S.C. 15000, et. seq. The Projects of National Significance (PNS) is Part E of the DD Act of 2000, 42 U.S.C. 15081, et. seq. Provision under this section provides for the award of grants, contracts, or cooperative agreements for projects of national and state policies that reinforce and promote the self-determination, independence, productivity, and integration and inclusion in all facets of community life of individuals with developmental disabilities through family support and data collection activities and other projects that hold promise to expand or improve opportunities for individuals with developmental disabilities.

Part II. Background Information For Applicants

A. Description of Projects of National Significance

Under Part E of the Act, grants and contracts are awarded for Projects of National Significance (PNS) that support the development of National and State policies to enhance the independence, productivity, integration, and inclusion of individuals with developmental disabilities through:

• Data collection and analysis;

• Technical assistance to enhance the quality of State Councils on Developmental Disabilities, Protection and Advocacy Systems, and University Centers in Developmental Disabilities; and

• Other projects of sufficient size and scope that hold promise to expand or improve opportunities for people with developmental disabilities, including:

(a) Technical assistance for the development of information and referral systems;

(b) Educating policy makers;

(c) Federal interagency initiatives;

(d) The enhancement of participation of minority and ethnic groups in public and private sector initiatives in developmental disabilities; and

(e) Transition of youth with developmental disabilities from school to adult life.

The purpose of the Projects of National Significance (PNS) program is not only to provide technical assistance to the Developmental Disabilities Councils, the Protection and Advocacy Systems, and the University Centers in Developmental Disabilities, but also to support projects “that hold promise to expand or improve opportunities for people with developmental disabilities.” PNS funds have initiated cutting edge projects, such as the “Reinventing Quality: Promising Practices in Person-Centered Community Services and Quality Assurance for People with Development Disabilities” that are at the forefront of the developmental disabilities field challenging traditional thinking and practices. The 2002 Priority Areas relate to the outcomes contained in ADD's plan for implementing the Government Performance Reporting Act (GPRA). In general, Projects are expected to increase community support and services, promote self-determination and productivity, and encourage interaction and collaboration among all sectors of the Developmental Disabilities field.

Part III. The Application Review Process

A. Eligible Applicants

Before applications under this Program Announcement (Number 93631-02-02) are reviewed, each one will be screened to determine whether the applicant is eligible for funding as public or non-profit private entities under the selected Priority Area. Applications from organizations that do not meet the eligibility requirements for the Priority Area will not be considered or reviewed in the competition, and the applicant will be so informed.

Only public or non-profit private entities, not individuals, are eligible to apply under any of the Priority Areas. All applications developed jointly by more than one agency or organization must identify only one organization as the lead organization and official applicant. The other participating agencies and organizations may be included as co-participants, sub-grantees, or subcontractors. Under this solicitation, a few of the Priority Areas may specify that a certain type of organization, such as a Community College, must be the official applicant.

Nonprofit organizations must submit proof of their nonprofit status in the applications at the time of submission. Proof of status includes providing a copy of the applicant's listing in the Internal Revenue Service's most recent list of tax-exempt organizations described in section 501 (c) (3) of the IRS code, a copy of a valid IRS tax exemption certificate, or a copy of the articles of incorporation bearing the seal of the State in which the corporation or association is domiciled. ADD cannot fund a nonprofit applicant without acceptable proof of its nonprofit status.

Faith-based organizations are eligible to apply for PNS grants if they meet the eligibility requirements stated above and for the specified Priority Area.

B. Review Process and Funding Decisions

Applications under this Program Announcement (Number 93631-02-02) from eligible applicants received by the deadline date will be competitively reviewed and scored. Experts in the field, generally persons from outside of the Federal government, will use the evaluation criteria listed later in this Part of the Program Announcement to review and to score the applications. The results of this review are a primary factor in making funding decisions.

ADD reserves the option of discussing applications with, or referring them to, other Federal or non-Federal funding sources when this is determined to be in the best interest of the Federal government and/or the applicant. ADD may also solicit comments from ACF Regional Office staff, other Federal agencies, interested foundations, national organizations, specialists, experts, States, and the general public. These comments, along with those of the expert reviewers, will be considered by ADD in making funding decisions.

In making PNS decisions for 2002 grant awards, ADD will consider whether applications focus on or feature the following aspects/activities in their project design:

• Services to culturally diverse or ethnic populations;

• A substantially innovative strategy with the potential to improve theory or practice in the field of human services;

• A model practice or set of procedures that holds the potential for replication by organizations administering or delivering human services;

• A substantial involvement of volunteers, the private sector (either financial or programmatic), and/or national or community foundations;

• A favorable balance between Federal and non-Federal funds available for the proposed project, which is likely to result in the potential for high benefit for low Federal investment; and

• A programmatic focus on those most in need of services and assistance, such unserved and underserved populations.

This year, 5 additional points will be added to the applicant's total in the scoring process for any project that includes partnership and collaboration with one or more of the 140 Empowerment Zones/Enterprise Communities. To receive the additional 5 points, the applicant must provide a clear outline for the collaboration and a discussion of how the involvement of the EZ/EC is related to the objectives and the activities of the project. Also, a letter from the appropriate representatives of the EZ/EC must accompany the application indicating its agreement to participate and describing its role in the project.

To the greatest extent possible, efforts will be made to ensure that funding decisions reflect an equitable distribution of assistance among the States and geographical regions of the country, rural and urban areas, and ethnic populations. In making these decisions, ADD may also take into account the need to avoid unnecessary duplication of effort and to address each of the Priority Areas.

C. Evaluation Process

Using the evaluation criteria (described under each Priority Area in Part IV), a panel of at least three reviewers (primarily experts from outside the Federal government) will evaluate and score the applications. To facilitate this review, applicants should ensure that they address the minimum requirements identified in the Priority Area description under the appropriate section of the Program Narrative Statement.

Reviewers will: Determine the strengths and weaknesses of each application in terms of the evaluation criteria listed below; provide comments; and assign numerical scores. The point value following each criterion heading under the Priority Area in Part VI indicates the maximum numerical weight that each applicant may receive per section in the review process.

D. Structure of Priority Area Descriptions

The Priority Area Description is composed of the following sections:

• Eligible Applicants: This section specifies the type of organization eligible to apply under the particular Priority Area. Specific restrictions are also noted, where applicable.

• Purpose: This section presents the basic focus and/or broad goal(s) of the Priority Area.

• Background Information: This section briefly discusses the legislative background as well as the current state-of-the-art and/or current state-of-practice that supports the need for the particular Priority Area. Relevant information on projects previously funded by ACF, ADD, and/or other State models are noted, where applicable.

• Minimum Requirements for Project Design: This section presents the basic set of issues that must be addressed in the application. Typically, they relate to project design, evaluation, and community involvement. This section also asks for specific information on the proposed project. Inclusion and discussion of these items is important since they will be used by the reviewers to evaluate the applications against the evaluation criteria. Project products, continuation of the project after Federal support ceases, and dissemination/utilization activities, if appropriate, are also addressed.

• Key Elements of Project Designs: As a general guide, ADD expects to fund only those proposals for projects that incorporate the elements listed in this section under each Priority Area.

• Evaluation Criteria: This section presents the basic set of issues that must be addressed in the application. Typically, they relate to need for assistance, results expected, project design, and organizational and staff capabilities. Inclusion and discussion of these items is important since the information provided will be used by the reviewers in evaluating the application against the evaluation criteria. Applicants should carefully review the section on the Uniform Project Description and the evaluation criteria under the Priority Area.

• Project Duration: This section specifies the maximum allowable length of the project period; it refers to the amount of time for which Federal funding is expected to be available to support the project's activities.

• Federal Share of Project Costs: This section specifies the maximum amount of Federal support for the project.

• Matching Requirement: This section specifies the minimum non-Federal contribution, either cash or in-kind match, required to receive Federal project funds.

• Anticipated Number of Projects To Be Funded: This section specifies the number of projects ADD anticipates funding under the Priority Area.

• CFDA: This section identifies the Catalog of Federal Domestic Assistance (CFDA) number and title of the program under which applications in the Priority Areas will be funded. This information is needed to complete item 10 on the SF 424.

Please note that applications under this Program Announcement that do not comply with their specific Priority Area requirements in the section on “Eligible Applicants” will not be reviewed.

Applicants under this Program Announcement must clearly identify the specific Priority Area under which they wish to have their applications considered, and tailor their applications accordingly. Applications that are more clearly focused on and directly responsive to the concerns of their specific Priority Area usually score better than those that are less specific and more generally defined.

E. Available Funds

Subject to the availability of funding. ADD intends to award new grants resulting from this Program Announcement during the fourth quarter of Fiscal Year 2002. For the purpose of the awards under this Program Announcement, the successful applicants should expect a project start date of October 1, 2002. The Priority Area descriptions include information on the maximum Federal share of the project costs and the anticipated number of projects to be funded.

The term “budget period” defines a one-year (12 months) interval of time. Where applicable, a multi-year period of assistance (referred to as the project period) is divided for budgetary and funding purposes into one-year budget periods. The term “project period” means to the total time a project is approved for support, including continuation applications and any federally approved extensions.

Where appropriate, applicants may propose shorter project periods than the maximums specified in the various Priority Areas. Non-Federal share contributions may exceed the minimums specified in the various Priority Areas.

For multi-year projects, continued Federal funding beyond the first budget period, but within the approved project period, is subject to the availability of funds, satisfactory progress of the grantee, and a determination that continued funding would be in the best interest of the Government.

F. Grantee Share of Project Costs

Grantees must match $1 for every $3 requested in Federal funding; to provide 25% of the total approved cost of the project. The total approved cost of the project is the sum of the ACF share and the non-Federal share. The non-Federal share may be met by cash or in-kind contributions, although applicants are encouraged to meet their match requirements through cash contributions. Therefore, a project requesting $100,000 in Federal funds (based on an award of $100,000 per budget period) must include a match of at least $33,333 (total project cost is $133,333, of which $33,333 is 25%).

An exception to the grantee cost-sharing requirement relates to applications originating from American Samoa, Guam, the Virgin Islands, and the Commonwealth of the Northern Mariana Islands. Applications from these areas are covered under Section 501(d) of Public Law 95-134, which requires that the Department waive any requirement for local matching funds for grants under $200,000.

The applicant contribution must be secured from non-Federal sources, except as provided by Federal statute. A cost-sharing or matching requirement may not be met by costs from another Federal grant, unless Federal statue sanctions such. For example, funds from Federal programs that benefit Tribes and Native American organizations have been used to provide valid sources of matching funds. Any Tribe or Native American organization submitting an application to ADD should identify the Federal program(s) that will provide the matching funds in its application. If the applicant is selected to receive PNS funds, then ADD will determine whether there is statutory authority for use of such funds. The Administration for Native Americans and the DHHS Office of General Counsel will assist ADD in making this determination.

G. General Instructions for the Uniform Project Description

The following ACF Uniform Project Description (UPD) has been approved under OMB Control Number 0970-0139. Applicants required to submit a full project description should prepare the project description statement in accordance with the following instructions.

Project summary/abstract: Provide a summary of the project description (a page or less) with reference to the funding request.

Objectives and Need for Assistance: Clearly identify the physical, economic, social, financial, institutional and/or other problem(s) requiring a solution. The need for assistance must be demonstrated and the principal and subordinate objectives of the project must be clearly stated; supporting documentation, such as letters of support and testimonies from concerned interests other than the applicant, may be included. Any relevant data based on planning studies should be included or referred to in the endnotes/footnotes. Incorporate demographic data and participant/beneficiary information, as needed. In developing the project description, the applicant may volunteer or be requested to provide information on the total range of projects currently being conducted and supported (or to be initiated) some of which may be outside the scope of the program announcement.

Results or Benefits Expected: Identify the results and benefits to be derived. Extent to which the applicant is consistent with the objectives of the application indicates the anticipated contributions to policy practice, theory and/or research. Extent to which the proposed project cost is reasonable in view of the expected results.

Approach: Outline a plan of action which describes the scope and detail of how the proposed work will be accomplished. Account for all functions or activities identified in the application. Cites factors, which might accelerate or decelerate the work, and state your reason for taking the proposed approach rather than others. Describe any unusual features of the project such as design or technological innovations, reductions in cost or time, or extraordinary social and community involvement.

Provide quantitative monthly or quarterly projections of the accomplishments to be achieved for each function or activity in such terms as the number of people to be served and the number of activities accomplished. When accomplishments cannot be quantified by activity or function, list them in chronological order to show the schedule of accomplishments and their target dates.

If any data is to be collected, maintained, and/or disseminated, clearance may be required from the U.S. Office of Management and Budget (OMB). This clearance pertains to any “collection of information that is conducted or sponsored by ACF.”

List organizations, cooperating entities, consultants, or other key individuals who will work on the project along with a short description of the nature of their effort or contribution.

1. Organization Profile: Provide information on the applicant organization(s) and cooperating partners such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. Any non-profit organization submitting an application must submit proof of its non-profit status in its application at the time of submission. The non-profit agency can accomplish this by providing a copy of the applicant's listing in the Internal Revenue Service's (IRS) most recent list of tax-exempt organizations described in Section 501(c)(3) of the IRS code, or by providing a copy of the currently valid IRS tax exemption certificate, or by providing a copy of the articles of incorporation bearing the seal of the State in which the corporation or association is domiciled.

Part IV: Fiscal Year 2002 Priority Areas for Projects of National Significance Description and Requirements

The following section presents the Priority Areas for Fiscal Year 2002 Projects of National Significance (PNS) and solicits the appropriate applications.

Fiscal Year 2002 Priority Area 1: Learning Through Assisting

• Eligible Applicants: State agencies, public or private nonprofit organizations, institutions or agencies, including a consortia of some or all of the above.

• Purpose: To create opportunities for and provide support to high school students to earn service learning credits by assisting children with developmental disabilities in inclusive environments.

• Background Information: Increasingly high schools throughout the country are requiring their students to earn community or service learning credits prior to graduation. In most circumstances, students are able to receive their credit hours by volunteering their time and skills in a wide range of community settings with the approval of the appropriate school personnel. This trend proposes a unique opportunity and a potential resource for families and agencies desiring to support children with disabilities in inclusive educational and recreational settings.

With a little training and on-going supervision, high school students can provide a valuable set of capable hands to support children with disabilities in activities and environments where paid professionals are limited or not available to families. Additionally, the non-material benefits of the formation of a relationship between a child with developmental disabilities and a young adult are endless to all involved parties. For example, the high school students will gain insights into the lives and dreams of individuals with disabilities that will carry into their future professional and private lives in the adult world. The children with disabilities will also have the opportunity to develop a friendship with an individual who can blend into their environment and even be looked up to by the children's peers, in a manner that few adults can achieve.

• Minimum Requirements for Project Design: ADD is particularly interested in supporting projects, which include the following activities and desired outcomes:

• Developing and implementing a model program for recruiting, preparing, and supporting high school students to work with children who have developmental disabilities and their families;

• Fostering partnerships between State Developmental Disabilities Networks (the Councils, Protection and Advocacy Systems, and University Centers), private and public high schools, community volunteer groups/organizations, service coalitions, businesses, and agencies to support and promote service learning opportunities with individuals who experience disabilities;

• Identifying and/or developing materials for high schools on professional opportunities and career paths in supporting individuals with developmental disabilities and their families, including educators and direct support workers;

• Building the capacity of community volunteer groups/organizations and high school service learning programs to include and support individuals with developmental disabilities and their families;

• Identifying existing model programs, best practices, and resources for high school students providing assistance to children with disabilities and their families;

• Providing training, guidance, supervision, and mentoring to high school students volunteering to assist children with developmental disabilities in inclusive community, recreational, and/or educational settings;

• Developing and disseminating educational and recruiting resources on the benefits of high school students being involved in the lives of children with developmental disabilities and their families for school high school administrators, educators, guidance counselors, volunteer coordinators, students, and parents; and

• Designing and disseminating web-based technical assistance materials on training and supporting high school students to assist children with developmental disabilities in inclusive environments.

• Key Elements of Project Designs:

As a general guide, ADD expects to fund only PNS proposals that incorporate the following elements in their project design:

• Involvement of consumers/self-advocates in planning and implementation;

• Key project personnel whom have direct life experience with living with a disability;

• Strong advisory components that consist of a majority of individuals with disabilities;

• A structure where individuals with disabilities make real decisions that determine the activities and outcomes of the grant;

• Research reflecting the principles of participatory action;

• Cultural competency;

• Description of how individuals with disabilities and their families will be involved in all aspects of the design, implementation, and evaluation of the project;

• Attention to unserved and inadequately served individuals with disabilities and their families from multicultural backgrounds, rural and inner-city areas, migrant, homeless, and refugees;

• Compliance with the Americans with Disabilities Act and Section 504 of the Rehabilitation Act of 1973 as amended by the Rehabilitation Act amendments of 1992 (Public Law 102-569);

• Collaboration with other organizations, groups, agencies, and foundations through partnerships and coalitions;

• Capacity to communicate and disseminate information and technical assistance through e-mail and other effective, affordable, and accessible forms of electronic communication;

• Develop and establish practices and programs beyond the project period from ADD;

• Dissemination of models, products, best practices, and strategies to the disability networks and others;

• Widespread distribution of grant funded products (reports, summary documents, audio-visual materials, etc.) in accessible format and in languages other than English;

• Describe and develop methods/plans to be used to continue the transfer of knowledge and information once the project period ends;

• Develop and implement an evaluation process to ensure that systematic and objective information is available about the utilization and effectiveness of the products from this project; and

• Specific outcomes tied to increasing the independence, productivity, integration and inclusion of individuals with developmental disabilities built into the project.

Evaluation Criteria: Four criteria will be used to review and evaluate each application. Each criterion should be addressed in the project description section of the application. The point values indicate the maximum numerical weight possible for each criterion in the review process. The specific information to be included under each of these headings is described in Section G of Part III, General Instructions for the Uniform Project Description. Additional Information that must be addressed is described below.

Criterion 1: Objectives and Need for Assistance (20 points)

The application must identify the following information: (a) The need for assistance, (b) the objectives of the proposed project, (c) the precise location of the proposed project, and (d) the area to be served by the proposed project.

The applicant may accomplish this best by: (a) Pinpointing the relevant physical, economic, social, financial, institutional, or other problems requiring a solution; (b) demonstrating the need for the assistance; (c) stating the principal and subordinate objectives for the proposed project; (d) providing supporting documentation and/or other testimonies from concerned individuals and groups other than the applicant; (e) providing relevant data based on research or planning studies, and (f) including maps and other graphic aids.

Criterion 2: Results or Benefits Expected (20 points)

The expected results and benefits of the proposed project should be consistent with the objectives of the application. The application must state the project's anticipated contributions to policy, practice, theory and/or research. The proposed project costs should be reasonable in view of the expected results.

Criterion 3: Approach (35 points)

The applicant must outline a sound, workable, and detailed plan of action, pertaining to the goals and objectives of the proposed project. Activities should be identified in chronological order, with target dates for accomplishment and the key personnel responsible for completing the activity. The plan of action should also clearly identify and delineate the roles and involvement of each of the proposed project's partners, collaborators, and/or sub-grantees.

The plan of action should involve the following types of information: (a) How the work will be accomplished; (b) factors that might accelerate or decelerate the work; (c) reasons for taking this approach as opposed to other possibilities; and (d) descriptions of innovations and/or unusual features (such as technological or design innovations, reductions in cost and/or time, or extraordinary community involvement). Additionally, the applicant must provide a discussion of how the expected results and benefits will be evaluated for the proposed project. This discussion should explain the methodology that will be used to determine if the needs identified and discussed in the application are being met and if the results and benefits identified are being achieved.

Criterion 4: Organization Profile (25 points)

The application identifies the background of the project director/principal investigator and key project staff (including name, address, training, educational background and other qualifying experience) and the experience of the organization to demonstrate the applicant's ability to effectively and efficiently administer this project. The applicant must describe the relationship between this project and other work that is planned, anticipated, or currently under way by the applicant.

This section should consist of a brief (two to three pages) background description of how the applicant organization (or the unit within the organization that will have responsibility for the project) is structured, the types and quantity of services it provides, and/or the research and management capabilities it possesses. It may include description of any current or previous relevant experience; or it may describe the competence of the project team and its demonstrated ability to produce final products that is readily comprehensible and usable. An organization chart showing the relationship of the project to the current organization must be included.

• Project Duration: ADD is soliciting applications for project periods up to two years (24 months) under this Priority Area. Awards, on a competitive basis, will be for a one-year budget period, although project periods may be for 24 months. Applications for continuation grant funds beyond the one-year budget period, but within the project period for the Priority Area, will be entertained, subject to the availability of funds, satisfactory progress of the grantee, and determination that continued or carryover funding would be in the best interest of the Government.

• Federal Share of Project Costs: The maximum Federal share is not to exceed $100,000 for the first 12-month budget period.

• Matching Requirement: Grantees must match $1 for every $3 requested in Federal funding to reach 25% of the total approved cost of the project. The total approved cost of the project is the sum of the ACF/ADD share and the non-Federal share. Cash or in-kind contributions may meet the non-Federal share, although applicants are encouraged to meet their match requirements through cash contributions. Therefore, a project requesting $100,000 in Federal funds (based on an award of $100,000 per budget period) must include a match of at least $33,333 (the total project cost is $133,333, of which $33,333 is 25%).

• Anticipated Number of Projects To Be Funded: ADD anticipates funding up to five projects under this Priority Area in FY 2002. Grants will be awarded under this program announcement subject to the availability of funds for support of these activities.

• CFDA: ADD's CFDA (Code of Federal Domestic Assistance) number is 93.631— Developmental Disabilities—Projects of National Significance. This information is needed to complete item 10 on the SF424.

Fiscal Year 2002 Priority Area 2: Creating and Celebrating One Community for All Citizens

• Eligible Applicants: State agencies, public or private nonprofit organizations, institutions or agencies, including a consortia of some or all of the above.

• Purpose: To build and support local communities of diverse citizens where individuals with developmental disabilities feel welcome and able to make contributions.

• Background Information: Throughout our Nation's history, America has taken great pride in the strength and diversity of its communities. Citizens of such a free land have the right, opportunity, and responsibility to work together in partnerships and coalitions to address their collective community of needs. Yet, most formal and informal groups elect to pledge their alliance to organizations with the mission to assist similar populations of citizens.

The end result is organizations and agencies working with one group of citizens rarely extend invitations of partnerships and coalitions to agencies and organizations assisting another segment of the community with similar issues and needs. As long as this standard of doing business remains the dominant practice, persons with developmental disabilities will continue to be segregated into separate programs, treated differently by their peers, and generally feel isolated from their own community. Additionally, generic service providers and business owners will continue to view the needs of individuals with the most significant disabilities as being “too special” to address and beyond their capacity and/or expertise.

In light of this, ADD is seeking applications to build, document, and disseminate information on community-based coalitions and grassroots efforts around pressing community needs that will result in increased productivity, independence, and inclusion of persons with developmental disabilities. Proposed projects should identify an Area of Emphasis (childcare, housing, education, employment, transportation, health, recreation, or quality assurance) from the DD Act of 2002 to develop community-based initiatives and coalitions that encompass the State Developmental Disabilities Network, cross-disability groups, and agencies and organizations with traditionally a non-disability focus. Example of agencies, groups, and organizations with traditionally a non-disability focus include, but are not limited to, the following: Inter-Faith Coalitions, Girls' and Boys' Clubs, Care Givers Associations, Rotary Clubs, Minority Colleges and Universities (Historical Black Colleges and Tribal Universities), Commerce and Business Associations, Rural Economic Development Councils, Main Street Improvement Funds, Safe Neighborhoods Projects, Small Business Organizations, Employment Networks, Youth Recreational Programs, Outdoor Adventure Clubs, Affordable Day Care or Housing Coalitions, and Health Promotion Campaigns.

• Minimum Requirements for Project Design: ADD is particularly interested in supporting projects, which include the following activities and desired outcomes:

• Developing and fostering partnerships between State Developmental Disabilities Networks (the Councils, Protection and Advocacy Systems, and University Centers) and other groups, organizations, coalitions, businesses, and agencies with traditionally a non-disability focus;

• Identifying an Area of Emphasis (transportation, child care, education, housing, recreation, health, employment, or quality assurance) and supporting local and/or State coalitions between disability related groups/agencies and other community groups/organizations to create system change and/or build capacity;

• Building the capacity of community groups and organizations to include and support individuals with developmental disabilities in community, social, and civic activities;

• Identifying opportunities and resources for individuals with developmental disabilities to participate in community events, organizations, and activities;

• Providing training and mentoring to individuals with developmental disabilities to prepare them for community involvement and leadership roles;

• Developing and disseminating a guidebook or manual for State Developmental Disabilities Networks to foster partnerships and coalitions with non-disability groups, agencies, coalitions, businesses, and organizations; and

• Designing and disseminating web-based technical assistance materials on coalition building and sustainability.

• Key Elements of Project Designs:

As a general guide, ADD expects to fund only PNS proposals that incorporate the following elements in their project design:

• Involvement of consumers/self-advocates in planning and implementation;

• Key project personnel whom have direct life experience with living with a disability;

• Strong advisory components that consist of a majority of individuals with disabilities;

• A structure where individuals with disabilities make real decisions that determine the activities and outcomes of the grant;

• Research reflecting the principles of participatory action;

• Cultural competency;

• Description of how individuals with disabilities and their families will be involved in all aspects of the design, implementation, and evaluation of the project;

• Attention to unserved and inadequately served individuals with disabilities and families from multicultural backgrounds, rural and inner-city areas, migrant, homeless, and refugees;

• Compliance with the Americans with Disabilities Act and Section 504 of the Rehabilitation Act of 1973 as amended by the Rehabilitation Act amendments of 1992 (Public Law 102-569);

• Collaboration with other organizations, groups, agencies, and foundations through partnerships and coalitions;

• Capacity to communicate and disseminate information and technical assistance through e-mail and other effective, affordable, and accessible forms of electronic communication;

• Develop and establish practices and programs beyond the project period from ADD;

• Dissemination of models, products, best practices, and strategies to the disability networks and others;

• Widespread distribution of grant funded products (reports, summary documents, audio-visual materials, etc.) in accessible format and in languages other than English;

• Describe and develop methods/plans to be used to continue the transfer of knowledge and information once the project period ends;

• Develop and implement an evaluation process to ensure that systematic and objective information is available about the utilization and effectiveness of the products from this project; and

• Specific outcomes tied to the ADD increasing the independence, productivity, integration and inclusion of individuals with developmental disabilities built into the project.

Evaluation Criteria: Four criteria will be used to review and evaluate each application. Each criterion should be addressed in the project description section of the application. The point values indicate the maximum numerical weight possible for each criterion in the review process. The specific information to be included under each of these headings is described in Section G of Part III, General Instructions for the Uniform Project Description. Additional Information that must be addressed is described below.

Criterion 1: Objectives and Need for Assistance (20 points)

The application must identify the following information: (a) The need for assistance, (b) the objectives of the proposed project, (c) the precise location of the proposed project, and (d) the area to be served by the proposed project.

The applicant may accomplish this best by: (a) Pinpointing the relevant physical, economic, social, financial, institutional, or other problems requiring a solution; (b) demonstrating the need for the assistance; (c) stating the principal and subordinate objectives for the proposed project; (d) providing supporting documentation and/or other testimonies from concerned individuals and groups other than the applicant; (e) providing relevant data based on research or planning studies, and (f) including maps and other graphic aids.

Criterion 2: Results or Benefits Expected (20 points)

The expected results and benefits of the proposed project should be consistent with the objectives of the application. The application must state the project's anticipated contributions to policy, practice, theory and/or research. The proposed project costs should be reasonable in view of the expected results.

Criterion 3: Approach (35 points)

The applicant must outline a sound, workable, and detailed plan of action, pertaining to the goals and objectives of the proposed project. Activities should be identified in chronological order, with target dates for accomplishment and the key personnel responsible for completing the activity. The plan of action should also clearly identify and delineate the roles and involvement of each of the proposed project's partners, collaborators, and/or sub-grantees.

The plan of action should involve the following types of information: (a) How the work will be accomplished; (b) factors that might accelerate or decelerate the work; (c) reasons for taking this approach as opposed to other possibilities; and (d) descriptions of innovations and/or unusual features (such as technological or design innovations, reductions in cost and/or time, or extraordinary community involvement). Additionally, the applicant must provide a discussion of how the expected results and benefits will be evaluated for the proposed project. This discussion should explain the methodology that will be used to determine if the needs identified and discussed in the application are being met and if the results and benefits identified are being achieved.

Criterion 4: Organization Profile (25 points)

The application identifies the background of the project director/principal investigator and key project staff (including name, address, training, educational background and other qualifying experience) and the experience of the organization to demonstrate the applicant's ability to effectively and efficiently administer this project. The applicant must describe the relationship between this project and other work that is planned, anticipated, or currently under way by the applicant.

This section should consist of a brief (two to three pages) background description of how the applicant organization (or the unit within the organization that will have responsibility for the project) is structured, the types and quantity of services it provides, and/or the research and management capabilities it possesses. It may include description of any current or previous relevant experience; or it may describe the competence of the project team and its demonstrated ability to produce final products that is readily comprehensible and usable. An organization chart showing the relationship of the project to the current organization must be included.

• Project Duration: ADD is soliciting applications for project periods up to two years (24 months) under this Priority Area. Awards, on a competitive basis, will be for a one-year budget period, although project periods may be for 24 months. Applications for continuation grant funds beyond the one-year budget period, but within the project period for the Priority Area, will be entertained, subject to the availability of funds, satisfactory progress of the grantee, and determination that continued or carryover funding would be in the best interest of the Government.

• Federal Share of Project Costs: The maximum Federal share is not to exceed $100,000 for the first 12-month budget period.

• Matching Requirement: Grantees must match $1 for every $3 requested in Federal funding to reach 25% of the total approved cost of the project. The total approved cost of the project is the sum of the ACF/ADD share and the non-Federal share. Cash or in-kind contributions may meet the non-Federal share, although applicants are encouraged to meet their match requirements through cash contributions. Therefore, a project requesting $100,000 in Federal funds (based on an award of $100,000 per budget period) must include a match of at least $33,333 (the total project cost is $133,333, of which $33,333 is 25%).

• Anticipated Number of Projects To Be Funded: ADD anticipates funding up to five projects under this Priority Area in FY 2002. Grants will be awarded under this program announcement subject to the availability of funds for support of these activities.

• CFDA: ADD's CFDA (Code of Federal Domestic Assistance) number is 93.631— Developmental Disabilities—Projects of National Significance. This information is needed to complete item 10 on the SF424.

Fiscal Year 2002 Priority Area 3: Enhancing Early Literacy and Education for Children With Developmental Disabilities

• Eligible Applicants: State agencies, public or private nonprofit organizations, institutions, or agencies, including a consortia of some or all of the above.

• Purpose: To identify, evaluate, and promote “Promising Practices” in inclusive early literacy and educational programs for young children with developmental disabilities.

• Background Information: With the emergence of welfare-to-work programs and the increase in two income families, the impact and importance of quality childcare and early education is rapidly growing in our Nation. The Americans with Disabilities Act was enacted over ten years ago and continues to expand opportunities for children with developmental disabilities and their families to enter childcare centers. For most children, their day care and early education experiences will sharply shape how they tackle educational opportunities well into young adulthood. Ensuring and promoting quality early education environments where all children feel welcome, safe, and included is key to our Nation's children with developmental disabilities future educational success, self-confidence, and overall mental health. As a step towards improving childcare services for all children and increasing early literacy, it is imperative for a knowledge basis to be identified, developed, and fostered on best practices and disseminated throughout the country for children with developmental disabilities.

• Minimum Requirements for Project Design: ADD is particularly interested in supporting creative projects, which include the following types of activities and desired outcomes:

• Identifying and evaluating a diverse sample of inclusive childcare providers with promising best practices in early literacy and education;

• Providing web-based, user-friendly materials and information on promising practices in early literacy and education for children with developmental disabilities;

• Developing and disseminating tools for parents of children with developmental disabilities to evaluate the quality of educational services from their childcare providers;

• Offering technical assistance to childcare providers on promising practices in inclusive education and early literacy;

• Collaborating with Head Start Programs and Early Intervention Projects to strengthen early literacy skills in young children with developmental disabilities;

• Collecting data on the impact of early literacy programs on and the unmet needs of children with developmental disabilities;

• Identifying and promoting after school care for young children with developmental disabilities that include an educational component;

• Increasing the parental involvement of young children with developmental disabilities in early literacy and education programs; and

• Promoting and establishing partnerships between parent advocacy organizations, childcare providers, disability-related groups, foundations/groups interested in early literacy, and others to improve early literacy in children with developmental disabilities.

• Key Elements of Project Designs:

As a general guide, ADD expects to fund only PNS proposals that incorporate the following elements in their project design:

• Involvement of consumers/self-advocates in planning and implementation;

• Key project personnel whom have direct life experience with living with a disability;

• Strong advisory components that consist of a majority of individuals with disabilities

• A structure where individuals with disabilities make real decisions that determine the activities and outcomes of the grant;

• Research reflecting the principles of participatory action;

• Cultural competency;

• Description of how individuals with disabilities and their families will be involved in all aspects of the design, implementation, and evaluation of the project;

• Attention to unserved and inadequately served individuals with disabilities and families from multicultural backgrounds, rural and inner-city areas, migrant, homeless, and refugees;

• Compliance with the Americans with Disabilities Act and Section 504 of the Rehabilitation Act of 1973 as amended by the Rehabilitation Act amendments of 1992 (Public Law 102-569);

• Collaboration with other organizations, groups, agencies, and foundations through partnerships and coalitions;

• Capacity to communicate and disseminate information and technical assistance through e-mail and other effective, affordable, and accessible forms of electronic communication;

• Develop and establish practices and programs beyond the project period from ADD;

• Dissemination of models, products, best practices, and strategies to the disability networks and others;

• Widespread distribution of grant funded products (reports, summary documents, audio-visual materials, etc.) in accessible format and in languages other than English;

• Describe and develop methods/plans to be used to continue the transfer of knowledge and information once the project period ends;

• Develop and implement an evaluation process to ensure that systematic and objective information is available about the utilization and effectiveness of the products from this project; and

• Specific outcomes tied to increasing the independence, productivity, integration and inclusion of individuals with developmental disabilities built into the project.

Evaluation Criteria: Four criteria will be used to review and evaluate each application. Each criterion should be addressed in the project description section of the application. The point values indicate the maximum numerical weight possible for each criterion in the review process. The specific information to be included under each of these headings is described in Section G of Part III, General Instructions for the Uniform Project Description. Additional Information that must be addressed is described below.

Criterion 1: Objectives and Need for Assistance (20 points)

The application must identify the following information: (a) The need for assistance, (b) the objectives of the proposed project, (c) the precise location of the proposed project, and (d) the area to be served by the proposed project.

The applicant may accomplish this best by: (a) Pinpointing the relevant physical, economic, social, financial, institutional, or other problems requiring a solution; (b) demonstrating the need for the assistance; (c) stating the principal and subordinate objectives for the proposed project; (d) providing supporting documentation and/or other testimonies from concerned individuals and groups other than the applicant; (e) providing relevant data based on research or planning studies, and (f) including maps and other graphic aids.

Criterion 2: Results or Benefits Expected (20 points)

The expected results and benefits of the proposed project should be consistent with the objectives of the application. The application must state the project's anticipated contributions to policy, practice, theory and/or research. The proposed project costs should be reasonable in view of the expected results.

Criterion 3: Approach (35 points)

The applicant must outline a sound, workable, and detailed plan of action, pertaining to the goals and objectives of the proposed project. Activities should be identified in chronological order, with target dates for accomplishment and the key personnel responsible for completing the activity. The plan of action should also clearly identify and delineate the roles and involvement of each of the proposed project's partners, collaborators, and/or sub-grantees.

The plan of action should involve the following types of information: (a) How the work will be accomplished; (b) factors that might accelerate or decelerate the work; (c) reasons for taking this approach as opposed to other possibilities; and (d) descriptions of innovations and/or unusual features (such as technological or design innovations, reductions in cost and/or time, or extraordinary community involvement). Additionally, the applicant must provide a discussion of how the expected results and benefits will be evaluated for the proposed project. This discussion should explain the methodology that will be used to determine if the needs identified and discussed in the application are being met and if the results and benefits identified are being achieved.

Criterion 4: Organization Profile (25 points)

The application identifies the background of the project director/principal investigator and key project staff (including name, address, training, educational background and other qualifying experience) and the experience of the organization to demonstrate the applicant's ability to effectively and efficiently administer this project. The applicant must describe the relationship between this project and other work that is planned, anticipated, or currently under way by the applicant.

This section should consist of a brief (two to three pages) background description of how the applicant organization (or the unit within the organization that will have responsibility for the project) is structured, the types and quantity of services it provides, and/or the research and management capabilities it possesses. It may include description of any current or previous relevant experience; or it may describe the competence of the project team and its demonstrated ability to produce final products that is readily comprehensible and usable. An organization chart showing the relationship of the project to the current organization must be included.

• Project Duration: ADD is soliciting applications for project periods up to two years (24 months) under this Priority Area. Awards, on a competitive basis, will be for a one-year budget period, although project periods may be for 24 months. Applications for continuation grant funds the one-year budget period, but within the project period for the Priority Area, will be entertained, subject to the availability of funds, satisfactory progress of the grantee, and determination that continued or carryover funding would be in the best interest of the Government.

• Federal Share of Project Costs: The maximum Federal share is not to exceed $100,000 for the first 12-month budget period.

• Matching Requirement: Grantees must match $1 for every $3 requested in Federal funding to reach 25% of the total approved cost of the project. The total approved cost of the project is the sum of the ACF/ADD share and the non-Federal share. Cash or in-kind contributions may meet the non-Federal share, although applicants are encouraged to meet their match requirements through cash contributions. Therefore, a project requesting $100,000 in Federal funds (based on an award of $100,000 per budget period) must include a match of at least $33,333 (the total project cost is $133,333, of which $33,333 is 25%).

• Anticipated Number of Projects To Be Funded: ADD anticipates funding up to five projects under this Priority Area in FY 2002. Grants will be awarded under this program announcement subject to the availability of funds for support of these activities.

• CFDA: ADD's CFDA (Code of Federal Domestic Assistance) number is 93.631—Developmental Disabilities—Projects of National Significance. This information is needed to complete item 10 on the SF424.

Fiscal Year 2002 Priority Area 4: Increasing Access in Rural Communities With Individuals Who Have Developmental Disabilities

• Eligible Applicants: State agencies, public or private nonprofit organizations, institutions, or agencies, including a consortia of some or all of the above.

• Purpose: To identify, develop, and promote inclusive transportation opportunities and coalitions in rural communities with individuals who experience developmental disabilities.

• Background Information: Improving and expanding the Department of Health and Human Services programs in rural communities is a priority of Secretary Thompson's Administration and the President's New Freedom Initiative is a national emphasis to enhance the quality of life for Americans with disabilities. For individuals with developmental disabilities residing in rural communities, the lack of reliable, dependable, affordable transportation remains their greatest barrier to achieving self-sufficiency and becoming an inclusive member of their community. The size of the general population in most rural communities is not believed to be ample to financially support on-going public transportation systems. Where taxi companies do exist in the rural community, the expense of taking private taxis on a routine basis for most individuals with developmental disabilities is cost prohibited. Access to transportation is a community issue, which requires creative, collaborative, local solutions.

• Minimum Requirements for Project Design: ADD is particularly interested in supporting creative projects, which include the following types of activities and desired outcomes:

• Identifying and evaluating a diverse sample of promising programs and best practices in providing inclusive transportation in rural communities;

• Organizing and hosting a National Summit on transportation for individuals with developmental disabilities residing in rural communities;

• Designing and offering web-based, user-friendly materials and information on promising practices in providing inclusive transportation services to individuals with developmental disabilities in rural communities;

• Identifying funding resources and opportunities for the development of and on-going costs associated with delivering inclusive transportation services in rural communities;

• Collecting and compiling data on the impact of barriers to transportation in rural areas for individuals with developmental disabilities on their productivity, independence, and inclusion, as well as the local economy, their community, family members, and the State's health care and service systems;

• Providing technical assistance to rural communities on how to develop and/or expand model programs for delivering inclusive transportation services; and

• Promoting and establishing partnerships between consumer/parent advocacy organizations, transportation providers, disability-related groups, public/private entities, other groups serving populations who experience transportation barriers, (such as the elderly, individuals living in poverty, and migrant workers), and others to improve access to transportation services for individuals with developmental disabilities in rural communities.

• Key Elements of Project Designs:

As a general guide, ADD expects to fund only PNS proposals that incorporate the following elements in their project designs:

• Involvement of consumers/self-advocates in planning and implementation;

• Key project personnel whom have direct life experience with living with a disability;

• Strong advisory components that consist of a majority of individuals with disabilities;

• A structure where individuals with disabilities make real decisions that determine the activities and outcomes of the grant;

• Research reflecting the principles of participatory action;

• Cultural competency;

• Description of how individuals with disabilities and their families will be involved in all aspects of the design, implementation, and evaluation of the project;

• Attention to unserved and inadequately served individuals with disabilities and families from multicultural backgrounds, rural and inner-city areas, migrant, homeless, and refugees;

• Compliance with the Americans with Disabilities Act and Section 504 of the Rehabilitation Act of 1973 as amended by the Rehabilitation Act amendments of 1992 (P.L. 102-569);

• Collaboration with other organizations, groups, agencies, and foundations through partnerships and coalitions;

• Capacity to communicate and disseminate information and technical assistance through e-mail and other effective, affordable, and accessible forms of electronic communication;

• Develop and establish practices and programs beyond the project period from ADD;

• Dissemination of models, products, best practices, and strategies to the disability networks and others;

• Widespread distribution of grant funded products (reports, summary documents, audio-visual materials, etc.) in accessible format and in languages other than English;

• Describe and develop methods/plans to be used to continue the transfer of knowledge and information once the project period ends;

• Develop and implement an evaluation process to ensure that systematic and objective information is available about the utilization and effectiveness of the products from this project; and

• Specific outcomes tied to increasing the independence, productivity, integration and inclusion of individuals with developmental disabilities built into the project.

Evaluation Criteria: Four criteria will be used to review and evaluate each application. Each criterion should be addressed in the project description section of the application. The point values indicate the maximum numerical weight possible for each criterion in the review process. The specific information to be included under each of these headings is described in Section G of Part III, General Instructions for the Uniform Project Description. Additional Information that must be addressed is described below.

Criterion 1: Objectives and Need for Assistance (20 points)

The application must identify the following information: (a) The need for assistance, (b) the objectives of the proposed project, (c) the precise location of the proposed project, and (d) the area to be served by the proposed project.

The applicant may accomplish this best by: (a) Pinpointing the relevant physical, economic, social, financial, institutional, or other problems requiring a solution; (b) demonstrating the need for the assistance; (c) stating the principal and subordinate objectives for the proposed project; (d) providing supporting documentation and/or other testimonies from concerned individuals and groups other than the applicant; (e) providing relevant data based on research or planning studies, and (f) including maps and other graphic aids.

Criterion 2: Results or Benefits Expected (20 points)

The expected results and benefits of the proposed project should be consistent with the objectives of the application. The application must state the project's anticipated contributions to policy, practice, theory and/or research. The proposed project costs should be reasonable in view of the expected results.

Criterion 3: Approach (35 points)

The applicant must outline a sound, workable, and detailed plan of action, pertaining to the goals and objectives of the proposed project. Activities should be identified in chronological order, with target dates for accomplishment and the key personnel responsible for completing the activity. The plan of action should also clearly identify and delineate the roles and involvement of each of the proposed project's partners, collaborators, and/or sub-grantees.

The plan of action should involve the following types of information: (a) How the work will be accomplished; (b) factors that might accelerate or decelerate the work; (c) reasons for taking this approach as opposed to other possibilities; and (d) descriptions of innovations and/or unusual features (such as technological or design innovations, reductions in cost and/or time, or extraordinary community involvement). Additionally, the applicant must provide a discussion of how the expected results and benefits will be evaluated for the proposed project. This discussion should explain the methodology that will be used to determine if the needs identified and discussed in the application are being met and if the results and benefits identified are being achieved.

Criterion 4: Organization Profile (25 points)

The application identifies the background of the project director/principal investigator and key project staff (including name, address, training, educational background and other qualifying experience) and the experience of the organization to demonstrate the applicant's ability to effectively and efficiently administer this project. The applicant must describe the relationship between this project and other work that is planned, anticipated, or currently under way by the applicant.

This section should consist of a brief (two to three pages) background description of how the applicant organization (or the unit within the organization that will have responsibility for the project) is structured, the types and quantity of services it provides, and/or the research and management capabilities it possesses. It may include description of any current or previous relevant experience; or it may describe the competence of the project team and its demonstrated ability to produce final products that is readily comprehensible and usable. An organization chart showing the relationship of the project to the current organization must be included.

• Project Duration: ADD is soliciting applications for project periods up to one year (12 months) under this Priority Area. Awards, on a competitive basis, will be for a one-year budget period, although project periods may be for 24 months. Applications for continuation grant funds beyond the one-year budget period, but within the project period for the Priority Area, will be entertained, subject to the availability of funds, satisfactory progress of the grantee, and determination that continued or carryover funding would be in the best interest of the Government.

• Federal Share of Project Costs: The maximum Federal share is not to exceed $100,000 for the first 12-month budget period.

• Matching Requirement: Grantees must match $1 for every $3 requested in Federal funding to reach 25% of the total approved cost of the project. The total approved cost of the project is the sum of the ACF/ADD share and the non-Federal share. Cash or in-kind contributions may meet the non-Federal share, although applicants are encouraged to meet their match requirements through cash contributions. Therefore, a project requesting $100,000 in Federal funds (based on an award of $100,000 per budget period) must include a match of at least $33,333 (the total project cost is $133,333, of which $33,333 is 25%).

• Anticipated Number of Projects To Be Funded: ADD anticipates funding up to five projects under this Priority Area in FY 2002. Grants will be awarded under this program announcement subject to the availability of funds for support of these activities.

• CFDA: ADD's CFDA (Code of Federal Domestic Assistance) number is 93.631— Developmental Disabilities—Projects of National Significance. This information is needed to complete item 10 on the SF424.

Fiscal Year 2002 Priority Area 5: Expanding Positive Youth Development Activities for Young People With Developmental Disabilities

• Eligible Applicants: Community Colleges. (While applicants competing under this Priority Area are encouraged to work in partnership with disability-related organizations and groups, the led grantee for these projects will be required to submit documentation of their legal status as a Community College to ADD.)

• Purpose: To expand youth development activities and provide positive community college experiences for young adults with developmental disabilities.

• Background Information: Community colleges represent a viable, active resource for our Nation with the potential to positive impact the lives of individuals with developmental disabilities and their families at the local level. According to the American Association of Communities Colleges' (AACC) web site, America has a total of 1,166 community colleges (1,004 public institutions and 147 independent institutions) providing quality, affordable higher education to over 10 million students annually. In a consumer satisfaction survey, 95% of businesses and organizations that make use of the services offered through community colleges would recommend the workforce education and training programs to their colleagues. Additionally, it is reported that 65% of our Nation's new healthcare workers each year receive their training at community colleges and 48% of community colleges offer welfare-to-work programs.

• Minimum Requirements for Project Design: ADD is particularly interested in supporting projects, which include the following types of activities and desired outcomes:

• Identifying, promoting, and establishing collaborative initiatives among community colleges, Department of Labor's “One Stop Centers,” Vocational Rehabilitation Agencies, and disability-related groups;

• Expanding and/or developing community college based models for offering positive college experiences to youth with developmental disabilities;

• Developing and offering non-traditional and innovative career developmental programs for persons with disabilities;

• Identifying, promoting, and/or forming community-based employment networks to assist young people with developmental disabilities in securing paid internships and jobs; and

• Exploring offering training to direct support workers while supporting college students with developmental disabilities to achieve their educational and vocational goals.

• Key Elements of Project Designs:

As a general guide, ADD expects to fund only PNS proposals that incorporate the following elements in their project design:

• Involvement of consumers/self-advocates in planning and implementation;

• Key project personnel whom have direct life experience with living with a disability;

• Strong advisory components that consist of a majority of individuals with disabilities;

• A structure where individuals with disabilities make real decisions that determine the activities and outcomes of the grant;

• Research reflecting the principles of participatory action;

• Cultural competency;

• Description of how individuals with disabilities and their families will be involved in all aspects of the design, implementation, and evaluation of the project;

• Attention to unserved and inadequately served individuals with disabilities and families from multicultural backgrounds, rural and inner-city areas, migrant, homeless, and refugees;

• Compliance with the Americans with Disabilities Act and Section 504 of the Rehabilitation Act of 1973 as amended by the Rehabilitation Act amendments of 1992 (Public Law 102-569);

• Collaboration with other organizations, groups, agencies, and foundations through partnerships and coalitions;

• Capacity to communicate and disseminate information and technical assistance through e-mail and other effective, affordable, and accessible forms of electronic communication;

• Develop and establish practices and programs beyond the project period from ADD;

• Dissemination of models, products, best practices, and strategies to the disability networks and others;

• Widespread distribution of grant funded products (reports, summary documents, audio-visual materials, etc.) in accessible format and in languages other than English;

• Describe and develop methods/plans to be used to continue the transfer of knowledge and information once the project period ends;

• Develop and implement an evaluation process to ensure that systematic and objective information is available about the utilization and effectiveness of the products from this project; and

• Specific outcomes tied to increasing the independence, productivity, integration and inclusion of individuals with developmental disabilities built into the project.

Evaluation Criteria: Four criteria will be used to review and evaluate each application. Each criterion should be addressed in the project description section of the application. The point values indicate the maximum numerical weight possible for each criterion in the review process. The specific information to be included under each of these headings is described in Section G of Part III, General Instructions for the Uniform Project Description. Additional Information that must be addressed is described below.

Criterion 1: Objectives and Need for Assistance (20 points)

The application must identify the following information: (a) The need for assistance, (b) the objectives of the proposed project, (c) the precise location of the proposed project, and (d) the area to be served by the proposed project.

The applicant may accomplish this best by: (a) Pinpointing the relevant physical, economic, social, financial, institutional, or other problems requiring a solution; (b) demonstrating the need for the assistance; (c) stating the principal and subordinate objectives for the proposed project; (d) providing supporting documentation and/or other testimonies from concerned individuals and groups other than the applicant; (e) providing relevant data based on research or planning studies, and (f) including maps and other graphic aids.

Criterion 2: Results or Benefits Expected (20 points)

The expected results and benefits of the proposed project should be consistent with the objectives of the application. The application must state the project's anticipated contributions to policy, practice, theory and/or research. The proposed project costs should be reasonable in view of the expected results.

Criterion 3: Approach (35 points)

The applicant must outline a sound, workable, and detailed plan of action, pertaining to the goals and objectives of the proposed project. Activities should be identified in chronological order, with target dates for accomplishment and the key personnel responsible for completing the activity. The plan of action should also clearly identify and delineate the roles and involvement of each of the proposed project's partners, collaborators, and/or sub-grantees.

The plan of action should involve the following types of information; (a) How the work will be accomplished; (b) factors that might accelerate or decelerate the work; (c) reasons for taking this approach as opposed to other possibilities; and (d) descriptions of innovations and/or unusual features (such as technological or design innovations, reductions in cost and/or time, or extraordinary community involvement). Additionally, the applicant must provide a discussion of how the expected results and benefits will be evaluated for the proposed project. This discussion should explain the methodology that will be used to determine if the needs identified and discussed in the application are being met and if the results and benefits identified are being achieved.

Criterion 4: Organization Profile (25 points)

The application identifies the background of the project director/principal investigator and key project staff (including name, address, training, educational background and other qualifying experience) and the experience of the organization to demonstrate the applicant's ability to effectively and efficiently administer this project. The applicant must describe the relationship between this project and other work that is planned, anticipated, or currently under way by the applicant.

This section should consist of a brief (two to three pages) background description of how the applicant organization (or the unit within the organization that will have responsibility for the project) is structured, the types and quantity of services it provides, and/or the research and management capabilities it possesses. It may include description of any current or previous relevant experience; or it may describe the competence of the project team and its demonstrated ability to produce final products that is readily comprehensible and usable. An organization chart showing the relationship of the project to the current organization must be included.

• Project Duration: ADD is soliciting applications for project periods up to two years (24 months) under this Priority Area. Awards, on a competitive basis, will be for a one-year budget period, although project periods may be for 24 months. Applications for continuation grant funds beyond the one-year budget period, but within the project period for the Priority Area, will be entertained, subject to the availability of funds, satisfactory progress of the grantee, and determination that continued or carryover funding would be in the best interest of the Government.

• Federal Share of Project Costs: The maximum Federal share is not to exceed $100,000 for the first 12-month budget period.

• Matching Requirement: Grantees must match $1 for every $3 requested in Federal funding to reach 25% of the total approved cost of the project. The total approved cost of the project is the sum of the ACF/ADD share and the non-Federal share. Cash or in-kind contributions may meet the non-Federal share, although applicants are encouraged to meet their match requirements through cash contributions. Therefore, a project requesting $100,000 in Federal funds (based on an award of $100,000 per budget period) must include a match of at least $33,333 (the total project cost is $133,333, of which $33,333 is 25%).

• Anticipated Number of Projects To Be Funded: ADD anticipates funding up to five projects under this Priority Area in FY 2002. Grants will be awarded under this program announcement subject to the availability of funds for support of these activities.

• CFDA: ADD's CFDA (Code of Federal Domestic Assistance) number is 93.631— Developmental Disabilities—Projects of National Significance. This information is needed to complete item 10 on the SF424.

Part V: Instructions for the Development and Submission of Applications

This Part contains information and instructions for submitting applications in response to this Program Announcement. An application package, containing all of the federal required forms, can be obtained by April Myers, Program Specialist: ADD, 370 L'Enfant Promenade SW, Washington, DC, 20447, 202/690-5985; http://www.acf.dhhs.gov/programs/add; or AMyers@acf.hhs.gov.

Potential applicants should read this section carefully in conjunction with the information contained within the specific Priority Area under which their application is being submitted. The Priority Area descriptions are in Part IV.

A. Required Notification of the State Single Point of Contact (SPOC)

All applications under the ADD Priority Area are required to follow the Executive Order (E.O.) 12372 process, “Intergovernmental Review of Federal Programs,” and 45 CFR Part 100, “Intergovernmental Review of Department of Health and Human Services Program and Activities.” Under the Order, States may design their own processes for reviewing and commenting on proposed Federal assistance under covered programs.

Note: State/territory participation in the intergovernmental review process does not signify applicant eligibility for financial assistance under a program. A potential applicant must meet the eligibility requirements of the program for which it is applying prior to submitting an application to its state single point of contact (SPOC), if applicable, or to ACF.

As of November 20, 1998, all States and territories, except Alabama, Alaska, American Somoa, Colorado, Connecticut, Hawaii, Idaho, Kansas, Louisiana, Massachusetts, Minnesota, Montana, Nebraska, New Jersey, Ohio, Oklahoma, Oregon, Palau, Pennsylvania, South Dakota, Tennessee, Vermont, Virginia, and Washington have elected to participate in the Executive Order process and have established a State Single Point of Contact (SPOC). Applicants from these jurisdictions or for projects administered by Federally recognized Indian Tribes need take no action regarding Executive Order 12372. Otherwise, applicants should contact their SPOCs as soon as possible to alert them of the prospective applications and receive any necessary instructions.

Applicants must submit all required materials to the SPOC as soon as possible so that the program office can obtain and review SPOC comments as part of the award process. It is imperative that the applicant submit all required materials and indicate the date of this submittal (or date SPOC was contacted, if no submittal is required) on the SF 424, item 16a.

Under 45 CFR 100.8(a)(2), a SPOC has 60 days from the application due date to comment on proposed new or competing continuation awards. However, there is insufficient time to allow for a complete SPOC comment period. Therefore, we have reduced the comment period to 30 days from the closing date for applications. These comments are reviewed as part of the award process. Failure to notify the SPOC can result in delays in awarding grants.

SPOCs are encouraged to eliminate the submission of routine endorsements as official recommendations. Additionally, SPOCs are requested to clearly differentiate between mere advisory comments and those official State process recommendations that may trigger the “accommodate or explain” rule.

When comments are submitted directly to ACF/ADD, they should be addressed to: Department of Health and Human Services, Administration on Children Youth and Families, Office of Grants Management, 370 L'Enfant Promenade, SW, Mail Stop 326F-HHH, Washington, DC 20447, Attn: Lois Hodge ADD—Projects of National Significance.

Contact information for each State's SPOC can be found on the OMB website at http://www.whitehouse.gov/omb/grants/spoc or by contacting your State Governor's office.

B. Notification of State Developmental Disabilities Councils

A copy of the application must also be submitted for review and comment to the State Developmental Disabilities Council in each State in which the applicant's project will be conducted. The Council review comments are not required concurrently with the grant application, but must be received by ADD prior to the award process. A list of the State Developmental Disabilities Councils can be found at ADD's website: http://www.acf.dhhs.gov/programs/add under Programs, or by contacting April Myers, ADD, 370 L'Enfant Promenade SW, Mailstop 300F, Washington, DC, 20447, (202) 690-5985.

C. Instructions for Preparing the Application and Completing Application Forms

The SF 424, SF 424A, SF 424A-Page 2 and Certifications/ Assurances are contained in the application package. Please prepare your application in accordance with the following instructions:

1. SF 424 Page 1, Application Cover Sheet

Please read the following instructions before completing the application cover sheet. An explanation of each item is included. Complete only the items specified.

Top of Page: Enter the selected Priority Area under which the application is being submitted.

Item 1. “Type of Submission”—Preprinted on the form.

Item 2. “Date Submitted” and “Applicant Identifier” —Date application is submitted to ACF/ADD and applicant's own internal control number, if applicable.

Item 3. “Date Received By State”—State use only (if applicable).

Item 4. “Date Received by Federal Agency”—Leave blank.

Item 5. “Applicant Information”.

“Legal Name”—Enter the legal name of applicant organization. For applications developed jointly, enter the name of the lead organization only. There must be a single applicant for each application.

“Organizational Unit”—Enter the name of the primary unit within the applicant organization which will actually carry out the project activity. Do not use the name of an individual as the applicant. If this is the same as the applicant organization, leave the organizational unit blank.

“Address”—Enter the complete address that the organization actually uses to receive mail, since this is the address to which all correspondence will be sent. Do not include both street address and P.O. box number unless both must be used in mailing.

“Name and telephone number of the person to be contacted on matters involving this application (give area code)”—Enter the full name (including academic degree, if applicable) and telephone number of a person who can respond to questions about the application. This person should be accessible at the address given here and will receive all correspondence regarding the application.

Item 6. “Employer Identification Number (EIN)”—Enter the employer identification number of the applicant organization, as assigned by the Internal Revenue Service, including, if known, the Central Registry System suffix.

Item 7. “Type of Applicant”—Self-explanatory.

Item 8. “Type of Application”—Preprinted on the form.

Item 9. “Name of Federal Agency”—Preprinted on the form.

Item 10. “Catalog of Federal Domestic Assistance Number and Title”—Enter the Catalog of Federal Domestic Assistance (CFDA) number assigned to the program under which assistance is requested and its title. For the Priority Area, the following should be entered, “93.631—Developmental Disabilities: Projects of National Significance.”

Item 11. “Descriptive Title of Applicant's Project”— Enter the project title. The title is generally short and is descriptive of the project, not the Priority Area title.

Item 12. “Areas Affected by Project”— Enter the governmental unit where significant and meaningful impact could be observed. List only the largest unit or units affected, such as State, county, or city. If an entire unit is affected, list it rather than subunits.

Item 13. “Proposed Project”—Enter the desired start date for the project and projected completion date.

Item 14. “Congressional District of Applicant/Project”—Enter the number of the Congressional district where the applicant's principal office is located and the number of the Congressional district(s) where the project will be located. If Statewide, a multi-State effort, or nationwide, enter “00.”

Items 15. Estimated Funding Levels in completing 15a through 15f, the dollar amounts entered should reflect, for a 17-month project period, the total amount requested. If the proposed project period exceeds 17 months, enter only those dollar amounts needed for the first 12 months of the proposed project.

Item 15a. Enter the amount of Federal funds requested in accordance with the preceding paragraph. This amount should be no greater than the maximum amount specified in the Priority Area description.

Items 15b-e. Enter the amount(s) of funds from non-Federal sources that will be contributed to the proposed project. Items b-e are considered cost sharing or “matching funds.” The value of third party in-kind contributions should be included on appropriate lines as applicable. For more information regarding funding as well as exceptions to these rules, see Part III, Sections E and F, and the specific area of emphasis description.

Item 15f. Enter the estimated amount of program income, if any, expected to be generated from the proposed project. Do not add or subtract this amount from the total project amount entered under item 15g. Describe the nature, source and anticipated use of this program income in the Project Narrative Statement.

Item 15g. Enter the sum of items 15a-15e.

Item 16a. “Is Application Subject to Review by State Executive Order 12372 Process?” If yes, enter the date the applicant contacted the SPOC regarding this application. Select the appropriate SPOC from the listing provided at the end of Part IV. The review of the application is at the discretion of the SPOC. The SPOC will verify the date noted on the application.

Item 16b. “Is Application Subject to Review by State Executive Order 12372 Process?” If no, Check the appropriate box if the application is not covered by Executive Order 12372 or if the program has not been selected by the State for review.

Item 17. “Is the Applicant Delinquent on any Federal Debt?”— Check the appropriate box. This question applies to the applicant organization, not the person who signs as the authorized representative. Categories of debt include audit disallowances, loans and taxes.

Item 18. “To the best of my knowledge and belief, all data in this application/pre-application are true and correct. The document has been duly authorized by the governing body of the applicant and the applicant will comply with the attached assurances if the assistance is awarded.”— To be signed by the authorized representative of the applicant. A copy of the governing body's authorization for signature of this application by this individual as the official representative must be on file in the applicant's office, and may be requested from the applicant.

Item 18a-c. “Typed Name of Authorized Representative, Title, Telephone Number”— Enter the name, title and telephone number of the authorized representative of the applicant organization.

Item 18d. “Signature of Authorized Representative”—Signature of the authorized representative named in Item 18a. At least one copy of the application must have an original signature. Use colored ink (not black) so that the original signature is easily identified.

Item 18e. “Date Signed”—Enter the date the application was signed by the authorized representative.

2. SF 424A—Budget Information—Non-Construction Programs

This is a form used by many Federal agencies. For this application, Sections A, B, C, E and F are to be completed. Section D does not need to be completed.

Sections A and B should include the Federal as well as the non-Federal funding for the proposed project covering; (1) the total project period of 17 months or less or (2) the first year budget period, if the proposed project period exceeds 15 months.

Section A—Budget Summary. This section includes a summary of the budget. On line 5, enter total Federal costs in column (e) and total non-Federal costs, including third party in-kind contributions, but not program income, in column (f). Enter the total of (e) and (f) in column (g).

Section B—Budget Categories. This budget, which includes the Federal as well as non-Federal funding for the proposed project, covers (1) the total project period of 17 months or less or (2) the first-year budget period if the proposed project period exceeds 17 months. It should relate to item 15g, total funding, on the SF 424. Under column (5), enter the total requirements for funds (Federal and non-Federal) by object class category.

A separate budget justification should be included to explain fully and justify major items, as indicated below. The types of information to be included in the justification are indicated under each category. For multiple year projects, it is desirable to provide this information for each year of the project. The budget justification should immediately follow the second page of the SF 424A.

Personnel—Line 6a. Enter the total costs of salaries and wages of applicant/grantee staff. Do not include the costs of consultants, which should be included on line 6h, “Other.”

Justification: Identify the principal investigator or project director, if known. Specify by title or name the percentage of time allocated to the project, the individual annual salaries, and the cost to the project (both Federal and non-Federal) of the organization's staff who will be working on the project.

Fringe Benefits—Line 6b. Enter the total costs of fringe benefits, unless treated as part of an approved indirect cost rate.

Justification: Provide a break-down of amounts and percentages that comprise fringe benefit costs, such as health insurance, FICA, retirement insurance, etc.

Travel—6c. Enter total costs of out-of-town travel (travel requiring per diem) for staff of the project. Do not enter costs for consultant's travel or local transportation, which should be included on Line 6h, “Other.”

Justification: Include the name(s) of traveler(s), total number of trips, destinations, length of stay, transportation costs and subsistence allowances.

Equipment—Line 6d. Enter the total costs of all equipment to be acquired by the project. For State and local governments, including Federally recognized Indian Tribes, “equipment” is tangible, non-expendable personal property having a useful life of more than one year and acquisition cost of $5,000 or more per unit.

Justification: Equipment to be purchased with Federal funds must be justified. The equipment must be required to conduct the project, and the applicant organization or its subgrantees must not have the equipment or a reasonable facsimile available to the project. The justification also must contain plans for future use or disposal of the equipment after the project ends.

Supplies—Line 6e. Enter the total costs of all tangible expendable personal property (supplies) other than those included on Line 6d.

Justification: Specify general categories of supplies and their costs.

Contractual—Line 6f. Enter the total costs of all contracts, including; (1) procurement contracts (except those which belong on other lines such as equipment, supplies, etc.) and (2) contracts with secondary recipient organizations, including delegate agencies. Also include any contracts with organizations for the provision of technical assistance. Do not include payments to individuals on this line. If the name of the contractor, scope of work, and estimated total costs are not available or have not been negotiated, include on Line 6h, “Other.”

Justification: Attach a list of contractors, indicating the names of the organizations, the purposes of the contracts, and the estimated dollar amounts of the awards as part of the budget justification. Whenever the applicant/grantee intends to delegate part or all of the program to another agency, the applicant/grantee must complete this section (Section B, Budget Categories) for each delegate agency by agency title, along with the supporting information. The total cost of all such agencies will be part of the amount shown on Line 6f. Provide backup documentation identifying the name of contractor, purpose of contract, and major cost elements.

Construction—Line 6g. Not applicable. New construction is not allowable.

Other—Line 6h. Enter the total of all other costs. Where applicable, such costs may include, but are not limited to: insurance; medical and dental costs; noncontractual fees and travel paid directly to individual consultants; local transportation (all travel which does not require per diem is considered local travel); space and equipment rentals; printing and publication; computer use; training costs, including tuition and stipends; training service costs, including wage payments to individuals and supportive service payments; and staff development costs. Note that costs identified as “miscellaneous” and “honoraria” are not allowable.

Justification: Specify the costs included.

Total Direct Charges—Line 6i. Enter the total of Lines 6a through 6h.

Indirect Charges—6j. Enter the total amount of indirect charges (costs). If no indirect costs are requested, enter “none.” Generally, this line should be used when the applicant (except local governments) has a current indirect cost rate agreement approved by the Department of Health and Human Services or another Federal agency.

Local and State governments should enter the amount of indirect costs determined in accordance with HHS requirements. When an indirect cost rate is requested, these costs are included in the indirect cost pool and should not be charged again as direct costs to the grant.

In the case of training grants to other than State or local governments (as defined in title 45, Code of Federal Regulations, part 74), the Federal reimbursement of indirect costs will be limited to the lesser of the negotiated (or actual) indirect cost rate or 8 percent of the amount allowed for direct costs, exclusive of any equipment charges, rental of space, tuition and fees, post-doctoral training allowances, contractual items, and alterations and renovations.

For training grant applications, the entry under line 6j should be the total indirect costs being charged to the project. The Federal share of indirect costs is calculated as shown above. The applicant's share is calculated as follows:

(a) Calculate total project indirect costs (a*) by applying the applicant's approved indirect cost rate to the total project (Federal and non-Federal) direct costs.

(b) Calculate the Federal share of indirect costs (b*) at 8 percent of the amount allowed for total project (Federal and non-Federal) direct costs exclusive of any equipment charges, rental of space, tuition and fees, post-doctoral training allowances, contractual items, and alterations and renovations.

(c) Subtract (b*) from (a*). The remainder is what the applicant can claim as part of its matching cost contribution.

Justification: Enclose a copy of the indirect cost rate agreement. Applicants subject to the limitation on the Federal reimbursement of indirect costs for training grants should specify this.

Total—Line 6k. Enter the total amounts of lines 6i and 6j.

Program Income—Line 7. Enter the estimated amount of income, if any, expected to be generated from this project. Do not add or subtract this amount from the total project amount.

Justification: Describe the nature, source, and anticipated use of program income in the Program Narrative Statement.

Section C—Non-Federal Resources. This section summarizes the amounts of non-Federal resources that will be applied to the grant. Enter this information on line 12 entitled “Totals.” In-kind contributions are defined in title 45 of the Code of Federal Regulations, Parts 74.51 and 92.24, as “property or services which benefit a grant-supported project or program and which are contributed by non-Federal third parties without charge to the grantee, the subgrantee, or a cost-type contractor under the grant or subgrant.”

Justification: Describe third party in-kind contributions, if included.

Section D—Forecasted Cash Needs. Not applicable.

Section E—Budget Estimate of Federal Funds Needed For Balance of the Project. This section should only be completed if the total project period exceeds 17 months.

Totals—Line 20. For projects that will have more than one budget period, enter the estimated required Federal funds for the second budget period (months 13 through 24) under column “(b) First.” If a third budget period will be necessary, enter the Federal funds needed for months 25 through 36 under “(c) Second.” Columns (d) and (e) are not applicable in most instances, since ACF/ADD funding is almost always limited to a three-year maximum project period. They should remain blank.

Section F—Other Budget Information.

Direct Charges—Line 21. Not applicable.

Indirect Charges—Line 22. Enter the type of indirect rate (provisional, predetermined, final or fixed) that will be in effect during the funding period, the estimated amount of the base to which the rate is applied, and the total indirect expense.

Remarks—Line 23. If the total project period exceeds 17 months, you must enter your proposed non-Federal share of the project budget for each of the remaining years of the project.

3. Project Description

The Project Description is a very important part of an application. It should be clear, concise, and address the specific requirements mentioned under the Area of Emphasis description in Part IV. The narrative should also provide information concerning how the application meets the evaluation criteria, using the following headings:

(a) Objectives and Need for Assistance;

(b) Results and Benefits Expected;

(c) Approach; and

(d) Organization Profile.

The specific information to be included under each of these headings is described in Section G of Part III, General Instructions for the Uniform Project Description.

The narrative should be typed double-spaced on a single-side of an 8½″ x 11″ plain white paper, with 1″ margins on all sides, using black print no smaller than 12 pitch or 12 point size. All pages of the narrative, including attachments (such as charts, references/footnotes, tables, maps, exhibits, etc.) and letters of support must be sequentially numbered, beginning with “Objectives and Need for Assistance” as page number one. Applicants should not submit reproductions of larger size paper, reduced to meet the size requirement.

The length of the application, including all attachments, must not exceed 60 pages. The federally required forms should not be count towards the total number of pages. The 60 page limit will be strictly enforced and reviewers will be instructed to not evaluate the contents of the applications beyond the first 60 pages of text. A page is a single side of an 8½″ x 11″ sheet of paper.

Applicants are requested not to send pamphlets, brochures or other printed material along with their application as these pose Xeroxing difficulties. These materials, if submitted, will not be included in the review process if they exceed the 60-page limit. Each page of the application will be counted to determine the total length.

4. Part V: Assurances/Certifications

Applicants are required to file a SF 424B, Assurances—Non-Construction Programs and the Certification Regarding Lobbying. Both must be signed and returned with the application. Applicants must also provide certifications regarding: (1) Drug-Free Workplace Requirements; and (2) Debarment and Other Responsibilities. These two certifications are self-explanatory. Copies of these assurances/certifications are reprinted at the end of this announcement and should be reproduced, as necessary. A duly authorized representative of the applicant organization must certify that the applicant is in compliance with these assurances/certifications. A signature on the SF 424 indicates compliance with the Drug Free Workplace Requirements, and Debarment and Other Responsibilities certifications, and need not be mailed back with the application.

In addition, applicants are required under Section 162(c)(3) of the Act to provide assurances that the human rights of all individuals with developmental disabilities (especially those individuals without familial protection) who will receive services under projects assisted under Part E will be protected consistent with section 110 (relating to the rights of individuals with developmental disabilities). Each application must include a statement providing this assurance.

For research projects in which human subjects may be at risk, a Protection of Human Subjects Assurance may be required. If there is a question regarding the applicability of this assurance, contact the Office for Research Risks of the National Institutes of Health at (301) 496-7041.

E. Checklist for a Complete Application

The checklist below is for your use to ensure that your application package has been properly prepared.

—One original, signed and dated application, plus two copies. Applications for different Priority Area are packaged separately;

—Applications must specifically identify one Priority Area to compete under on the first page of the application.

—Applications for different Priority Areas must be package and identified separately;

Application is from an organization that is eligible under the eligibility requirements, defined in the Priority Area description;

—Application length does not exceed 60 pages, including attachments and excluding federally required forms.

A complete application consists of the following items in this order:

—Application for Federal Assistance (SF 424, REV 4-88);

—A completed SPOC certification with the date of SPOC contact entered in line 16, page 1 of the SF 424 if applicable.

—Budget Information—Non-Construction Programs (SF 424A, REV 4-88);

—Budget justification for Section B—Budget Categories;

—Table of Contents;

—Letter from the Internal Revenue Service, etc. to prove non-profit status, if necessary;

—Copy of the applicant's approved indirect cost rate agreement, if appropriate;

—Project Description (See Part III, Section C);

—Any appendices/attachments;

—Assurances—Non-Construction Programs (Standard Form 424B, REV 4-88);

—Certification Regarding Lobbying; and

—Certification of Protection of Human Subjects, if necessary.

—Certification of the Pro-Children Act of 1994; signature on the application represents certification.

F. The Application Package

Each application package must include an original and two copies of the complete application. Each copy should be stapled securely (front and back if necessary) in the upper left-hand corner. All pages of the narrative (including charts, tables, maps, exhibits, etc.) must be sequentially numbered, beginning with page one. In order to facilitate handling, please do not use covers, binders or tabs. Do not include extraneous materials as attachments, such as agency promotion brochures, slides, tapes, film clips, minutes of meetings, survey instruments or articles of incorporation.

G. Paper Reduction Act of 1995 (Public Law 104-13)

The Uniform Project Description information collection within this announcement is approved under the Uniform Project Description (0970-0139), Expiration Date 12/31/2003.

Public reporting burden for this collection of information is estimated to average 10 hours per response, including the time for reviewing instructions, gathering and maintaining the data needed, and reviewing the collection of information.

Any federal agency may not conduct or sponsor, and a person is not required to respond to, a collection of information unless it displays a currently valid OMB control number.

(Federal Catalog of Domestic Assistance Number 93.631 Developmental Disabilities—Projects of National Significance)

Dated: May 23, 2002.
Patricia Morrissey,
Commissioner, Administration on Developmental Disabilities.

[FR Doc. 02-13427 Filed 5-29-02; 8:45 am]

BILLING CODE 4184-01-P